DEPARTMENT OF COMMERCE

International Trade Administration

[A-570-601]

Tapered Roller Bearings and Parts Thereof, Finished and Unfinished, From the People's Republic of China; Amended Final Results of Antidumping Duty Administrative Review

AGENCY: Import Administration, International Trade Administration, Department of Commerce.

ACTION: Notice of final court decision and amended final results of administrative review.

EFFECTIVE DATE: December 31, 2002.

SUMMARY: As a result of a final and conclusive court decision, the Department of Commerce is amending its final results of the administrative review of shipments of tapered roller bearings and parts thereof, finished and unfinished from the People's Republic of China made during the period June 1, 1993, through May 31, 1994.

FOR FURTHER INFORMATION CONTACT: Jennifer Moats or Richard Rimlinger, Import Administration, International Trade Administration, U.S. Department of Commerce, 14th Street and Constitution Avenue, NW., Washington, DC 20230; telephone (202) 482-5047 or (202) 482-4477, respectively.

SUPPLEMENTARY INFORMATION:

Applicable Statute

Unless otherwise indicated, all citations to the Tariff Act of 1930, as amended (the Act), are references to the provisions in effect as of December 31, 1994. In addition, unless otherwise indicated, all citations to the Department of Commerce's (the Department's) regulations are to the regulations as codified at 19 CFR part 353 (1995).

Summary

On February 11, 1997, the Department published in the Federal Register its Final Results and Partial Termination of Antidumping Duty Administrative Review on Tapered Roller Bearings and Parts Thereof, Finished and Unfinished, from the People's Republic of China, 62 FR 6173 (Final Results). This notice covered various exporters for the period June 1, 1993, through May 31, 1994. As a result of litigation, the Court of International Trade (CIT) remanded the results of the review to the Department on October 25, 2001. See Peer Bearing Company v. United States, Court No. 97-03-00419, Slip Op. 01-125 (CIT October 25, 2001). The CIT ordered the Department to make the following changes to its original calculations: (1) Correct a clerical error resulting from the application of best information available to certain models for which factor-of-production data were available; (2) redetermine direct labor costs on the basis of SKF India's data on labor (supplemented by facts otherwise available only to the extent necessitated by the insufficiency, if any, of SKF India's data currently on the record); and (3) determine marine insurance in a manner related to the value and risk of transporting tapered roller bearings. The Department submitted its final results of redetermination on remand to the CIT on March 12, 2002; the CIT affirmed the Department's final remand results and dismissed the case. See Peer Bearing Company v. United States, Court No. 97-03-00419, Slip Op. 02-53 (CIT June 5, 2002). In another decision, Transcom, Inc., et al. v. United States, Court No. 01-1138, 2002 U.S. App. LEXIS 12723 (June 27, 2002), the Court of Appeals for the Federal Circuit issued an opinion upholding the Department's determination in this administrative review.

As there is now a final and conclusive court decision in this action, we are amending our final results of review and we will instruct the Customs Service to liquidate entries subject to this review.

Amendment to Final Results

Pursuant to section 516A(e) of the Act, we are now amending the final results of administrative review of the antidumping duty order on tapered roller bearings and parts thereof, finished and unfinished, from the People's Republic of China for the period of review June 1, 1993, through May 31, 1994. The revised weighted-average margins are as follows:

Company | Margin (percent)
Premier Bearing and Equipment Ltd | 60.95
Guizhou Machinery Import and Export Corporation | 9.06
Henan Machinery and Equipment Import and Export Corporation | 0.61
Luoyang Bearing Factory | 0.57
Shanghai General Bearing Company Limited | 0.05
Jilin Province Machinery Import and Export Corporation | 60.95
Chin Jun Industrial Limited | 10.00
Wafangdian Bearing Factory | 13.36
Lianning MEC Group Company Limited | 7.24
China National Machinery Import and Export Corp (CMC) | 0.06
China Nat'l Automotive Industry Machinery Import and Export Corp (Guizou Automotive) | 0.96
Tianshui Hailin Import and Export Corp | 16.55
Zhejiang Machinery Import and Export Corp | 10.08

Accordingly, the Department will determine and the Customs Service shall assess appropriate antidumping duties on entries of the subject merchandise exported by firms covered by this review. Weighted-average margins for other respondent companies remain as published in the Final Results.

We are issuing and publishing this determination in accordance with section 751(a) of the Act.

Dated: December 19, 2002.
Bernard T. Carreau,
Acting Assistant Secretary for Import Administration.

[FR Doc. 02-33009 Filed 12-30-02; 8:45 am]

BILLING CODE 3510-DS-P